DEPARTMENT OF ENERGY

Federal Energy Regulatory Commission

[ Project No. 2790-055]

Boott Hydropower, Inc.; Notice of Availability of Draft Environmental Assessment

In accordance with the National Environmental Policy Act of 1969 and the Federal Energy Regulatory Commission's (Commission or FERC) regulations, 18 CFR part 380, Commission staff has reviewed the application for amendment of license for the Lowell Hydroelectric Project (FERC No. 2790-055) and has prepared a draft environmental assessment (draft EA). The project is located on the Merrimack River in Middlesex County, Massachusetts.

The draft EA contains the Commission staff's analysis of the potential environmental effects of the proposed replacement of the wooden flashboards with a pneumatic crest gate system of the same height and interim modifications to the existing flashboard system and concludes that authorizing the amendment, with appropriate environmental protective measures, would not constitute a major Federal action that would significantly affect the quality of the human environment.

A copy of the draft EA is available for review at the Commission in the Public Reference Room, or it may be viewed on the Commission's Web site at http://www.ferc.gov using the e-Library link. Enter the docket number (P-2790) in the docket number field to access the document. For assistance, contact FERC Online Support at FERCOnlineSupport@ferc.gov or call toll-free at 1-866-208-3676 or (202) 502-8659 (for TTY).

Any comments should be filed within 30 days from the issuance date of this notice, and should be addressed to the Secretary, Federal Energy Regulatory Commission, 888 First Street, NE., Washington, DC 20426. Please reference the Lowell Project No. 2790 on all comments. For further information on this notice, please contact Holly Frank at (202) 502-6833. Comments may be filed electronically via the Internet in lieu of paper. See 18 CFR 385.2001 (a)(1)(iii) and the instructions on the Commission's Web site at http://www.ferc.gov under the e-Filing link. The Commission strongly encourages electronic filing.

Dated: June 10, 2011.
Kimberly D. Bose,
Secretary.

[FR Doc. 2011-14970 Filed 6-15-11; 8:45 am]

BILLING CODE 6717-01-P